Proclamation 9021 of September 19, 2013

National POW/MIA Recognition Day, 2013

By the President of the United States of America

A Proclamation

Our country endures because in every generation, courageous Americans answer the call to serve in our Armed Forces. They represent the very best of the human spirit, stand tall for the values and freedoms we cherish, and uphold peace and security at home and around the globe. Today, we pay tribute to the service members who have not returned from the battlefield, we stand beside their families, and we honor those who are held captive as prisoners of war. We will never forget their sacrifice, nor will we ever abandon our responsibility to do everything in our power to bring them home.

America remains steadfast in our determination to recover our missing patriots. Our work is not finished until our heroes are returned safely to our shores or a full accounting is provided to their loved ones. We must care for the men and women who have served so selflessly in our name, and we must carry forward the legacy of those whose fates are still unknown. Today, and every day, we express our profound appreciation to our service members, our veterans, our military families, and all those who placed themselves in harm's way to sustain the virtues that are the hallmarks of our Union.

On September 20, 2013, the stark black and white banner symbolizing America's Missing in Action and Prisoners of War will be flown over the White House; the United States Capitol; the Departments of State, Defense, and Veterans Affairs; the Selective Service System Headquarters; the World War II Memorial; the Korean War Veterans Memorial; the Vietnam Veterans Memorial; United States post offices; national cemeteries; and other locations across our country. We raise this flag as a solemn reminder of our obligation to always remember the sacrifices made to defend our Nation.

NOW, THEREFORE, I, BARACK OBAMA, President of the United States of America, by virtue of the authority vested in me by the Constitution and the laws of the United States, do hereby proclaim September 20, 2013, as National POW/MIA Recognition Day. I urge all Americans to observe this day of honor and remembrance with appropriate ceremonies and activities.

IN WITNESS WHEREOF, I have hereunto set my hand this nineteenth day of September, in the year of our Lord two thousand thirteen, and of the Independence of the United States of America the two hundred and thirty-eighth.

[FR Doc. 2013-23467

Filed 9-24-13; 8:45 am]

Billing code 3295-F3